DEPARTMENT OF HEALTH AND HUMAN SERVICES

Centers for Disease Control and Prevention

[60Day-14-14LA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Annual Survey of Colorectal Cancer Control Activities Conducted by States and Tribal Organizations—New—National Center for Chronic Disease Prevention and Health Promotion (NCCDPHP), Centers for Disease Control and Prevention (CDC).

Background and Brief Description

In July 2009, the Centers for Disease Control and Prevention's Division of Cancer Prevention and Control, National Center for Chronic Disease Prevention and Health Promotion, funded the Colorectal Cancer Control Program (CRCCP) for a five-year period. Through a competitive application process, 22 states and four tribal organizations received cooperative agreement awards. In 2010, three additional states were funded, bringing the total number of grantees to 29. The purpose of the CRCCP is to promote colorectal cancer (CRC) screening to increase population-level screening rates to 80% and, subsequently, to reduce CRC incidence and mortality (www.cdc.gov/cancer/crccp/). The CRCCP includes two program components: (1) CRC screening of low-income, uninsured and underinsured people (screening provision) and (2) implementation of interventions to increase population-level screening rates (screening promotion).

The CRCCP is based on a social-ecological framework that emphasizes the implementation of evidence-based strategies at the interpersonal, organizational, community, and policy levels. Grantees are strongly encouraged to implement one or more of the five evidence-based strategies that are recommended in the Guide to Community Preventive Services (Community Guide; www.thecommunityguide.org/cancer/index.html ).

As a comprehensive, organized screening program, the CRCCP supports activities including program management, partnership development, public education and targeted outreach, screening and diagnostic services, patient navigation, quality assurance and quality improvement, professional development, data management and utilization, and program monitoring and evaluation. For clinical service delivery, grantees fund health care providers in their state or tribal organization to deliver colorectal cancer screening, diagnostic evaluation, and treatment referrals for those diagnosed with cancer. Through direct screening efforts in the first three years of the CRCCP, 26,565 individuals were screened, 4,059 cases of precancerous polyps were detected and removed, and 74 cancers were diagnosed and treated.

The purpose of the proposed data collection is to annually assess program implementation, particularly related to the use of evidence-based strategies. The primary survey audience is CRCCP program grantees (program directors or managers); however, the survey will also be administered to a comparison group of states or tribes that do not currently receive CRCCP funding. Respondents for the non-CRCCP funded survey group will be program directors or managers from the National Breast and Cervical Cancer Early Detection Program (NBCCEDP), a comparable group with whom the Centers for Disease Control and Prevention (CDC) has an established relationship.

The Web-based survey includes questions about respondent background, program activities, clinical service delivery, monitoring and evaluation, partnerships, training and technical assistance needs, and program management and integration. Questions are of various types including dichotomous and multiple response. The estimated burden per response is 75 minutes. There are two versions of the survey: One for CRCCP-funded states and tribal organizations, and one for states and tribal organizations that do not currently receive CRCCP funding. All information will be collected electronically.

The assessment will enable CDC to gauge progress in meeting CRCCP program goals, identify implementation activities, monitor efforts aimed at impacting population-based screening, identify technical assistance needs of state, tribe and territorial health department cancer control programs, and identify implementation models with potential to expand and transition to new settings to increase program impact and reach.

The assessment will also identify successful activities that should be maintained, replicated, or expanded as well as provide insight into areas that need improvement. Current CRCCP funding is through June 2015, however, CDC anticipates that the program will be renewed. Data obtained from the unfunded states or tribes will provide comparison data to facilitate identification of similarities or differences, if any, in colorectal cancer screening activities, including the use of evidence-based strategies to promote and provide cancer screening. OMB approval is requested for three years. Participation in the survey is voluntary and there are no costs to respondents other than their time.

Estimated Annualized Burden Hours
Type of respondent | Form name | Number of respondents | Number of responses per respondent | Average burden per response (in hr) | Total burden (in hr)
CRCCP Program Directors (PD) or Program Managers (PM) | CRCCP Grantee Survey of Program Implementation | 29 | 1 | 75/60 | 36
PD or PM from States or Tribes that do not receive CRCCP funding | Survey of Colorectal Cancer Prevention and Control Activities | 33 | 1 | 75/60 | 41
Total |  |  |  |  | 77

Leroy A. Richardson,
Chief, Information Collection Review Office, Office of Scientific Integrity, Office of the Associate Director for Science, Office of the Director, Centers for Disease Control and Prevention.

[FR Doc. 2014-04973 Filed 3-6-14; 8:45 am]

BILLING CODE 4163-18-P